DEPARTMENT OF ENERGY

Federal Energy Regulatory Commission

[ER96-1361-013 etc.]

Atlantic City Electric Company et al.; Notice of Filing

September 16, 2008.

| Docket Nos.
Atlantic City Electric Company | ER96-1361-013
Delmarva Power & Light Company | ER99-2781-011
Potomac Electric Power Company | ER98-4138-009
Conectiv Energy Supply, Inc. | ER00-1770-019
Conectiv Atlantic Generation, LLC
Conectiv Delmarva Generation, LLC
Conectiv Bethlehem, LLC | ER02-453-010
Pepco Energy Services, Inc. | ER98-3096-015
Bethlehem Renewable Energy, LLC | ER07-903-002
Eastern Landfill Gas, LLC | ER05-1054-003
Potomac Power Resources, LLC | ER01-202-008
Fauquier Landfill Gas, LLC | ER04-472-007

Notice of Filing

Take notice that on April 8, 2008, Pepco Holdings, Inc on behalf of its affiliates Atlantic City Electric Company, Delmarva Power & Light Company, Potomac Electric Power Company, Conectiv Energy Supply, Inc., Conectiv Atlantic Generation, LLC, Conectiv Delmarva Generation, LLC, Conectiv Bethlehem, LLC, Pepco Energy Services, Inc., Bethlehem Renewable Energy, LLC, Eastern Landfill Gas, LLC, Potomac Power Resources, LLC, and Fauquier Landfill Gas, LLC filed market-based tariff revisions in response to the Commission's informal data request issued on April 4, 2008.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 22, 2008.

Kimberly D. Bose,
Secretary.

[FR Doc. E8-22159 Filed 9-22-08; 8:45 am]

BILLING CODE 6717-01-P